Title 3—

The President

Proclamation 8380 of May 14, 2009

Armed Forces Day, 2009

By the President of the United States of America

A Proclamation

On Armed Forces Day, 1961, President Kennedy connected civic engagement and our Nation’s security. He stated, “the strength of our armed forces rests not alone upon their active and reserve members, our industrial productivity, and our human resources, but also upon the understanding and support of an informed American people.” Based on this perspective, I call upon all Americans to learn more about, and express gratitude for, the heroic efforts of our men and women in uniform.

Today, the United States military serves across the world to keep us safe. They are working here at home to protect America from threats foreign and domestic; they are risking their lives in the deserts of Iraq and the mountains of Afghanistan; and they are also serving bravely in many other parts of the world to ensure our security and provide humanitarian assistance. Members of the Armed Forces are forging a better future for our Nation and the world.

As they carry out their missions, military families endure the sacrifice of their absence. Worrying about their safety, moving to new duty stations, and managing a home without a loved one, these families shoulder great burdens as they help sustain our men and women in uniform. I thank military families for their vital contributions.

The Soldiers, Sailors, Airmen, Marines, and Coastguardsmen who have answered the call to service deserve recognition and gratitude. They have endured the most difficult of conditions to protect America and her highest ideals. Today, I ask all Americans to know their sacrifice and join me in humble thanks.

NOW, THEREFORE, I, BARACK OBAMA, President of the United States of America, and Commander in Chief of the Armed Forces of the United States, continuing the precedent of my predecessors in office, do hereby proclaim the third Saturday of each May as Armed Forces Day.

I direct the Secretary of Defense on behalf of the Army, Navy, Air Force, Marine Corps, and the Secretary of Homeland Security on behalf of the Coast Guard, to plan for appropriate observances each year, with the Secretary of Defense responsible for soliciting the participation and cooperation of civil authorities and private citizens.

I invite the Governors of the States, the Commonwealth of Puerto Rico, and other areas subject to the jurisdiction of the United States, to provide for the observance of Armed Forces Day within their jurisdiction each year in an appropriate manner designed to increase public understanding and appreciation of the Armed Forces of the United States.

I also invite national and local veterans, civic and other organizations to join in the observance of Armed Forces Day each year.

Finally, I call upon all Americans to display the flag of the United States at their homes on Armed Forces Day and urge citizens to learn more about military service by attending and participating in the local observances of the day. I also encourage Americans to volunteer at organizations that provide support to our troops.

Proclamation 7562 of May 16, 2002, is hereby superseded.

IN WITNESS WHEREOF, I have hereunto set my hand this fourteenth day of May, in the year of our Lord two thousand nine, and of the Independence of the United States of America the two hundred and thirty-third.

[FR Doc. E9-11834

Filed 5-18-09; 11:15 am]

Billing code 3195-W9-P